DEPARTMENT OF AGRICULTURE

Forest Service

Northeast Oregon Forests Resource Advisory Committee (RAC)

AGENCY: Forest Service, USDA.

ACTION: Notice of meeting.

SUMMARY: Pursuant to the authorities in the Federal Advisory Committees Act (Pub. L. 92-463), the Northeast Oregon Forests Resource Advisory Committee (RAC) will meet on May 15-16, 2003, in Unity, Oregon. The purpose of the meeting is to meet as a Committee to discuss the selection of title II projects under Public Law 106-393, H.R. 2389, the Secure Rural Schools and Community Self-Determination Act of 2000, also called the “Payments to States” Act.

DATES: The meeting will be held on May 15, 2003, from 8 a.m. to 5 p.m. and May 16, 2003, from 8 a.m. until 4 p.m.

ADDRESSES: The meeting will be held at the Unity Community Hall, Highway 26, Unity, Oregon.

FOR FURTHER INFORMATION CONTACT: Jennifer Harris, Designated Federal Official, USDA, Malheur National Forest, P.O. Box 909, John Day, Oregon 97845. Phone: (541) 575-3000.

SUPPLEMENTARY INFORMATION: This meeting of the committee will focus on reviewing and recommending title II project proposals for funding under Pub. L. 106-393, H.R. 2389, the Secure Rural Schools and Community Self-Determination Act of 2000. The meeting is open to the public. A public input opportunity will be provided at 1 p.m. May 15, and individuals will have the opportunity to address the committee at that time.

Dated: April 17, 2003.
Jennifer L. Harris,
Designated Federal Official.

[FR Doc. 03-10112 Filed 4-23-03; 8:45 am]

BILLING CODE 3410-DK-M